DEPARTMENT OF AGRICULTURE

Rural Business—Cooperative Service

Inviting Applications for Rural Business Opportunity Grants

AGENCY: Rural Business—Cooperative Service, USDA.

ACTION: Notice.

SUMMARY: The Rural Business—Cooperative Service (RBS), an Agency within the Rural Development mission area, announces the availability of grants under the Rural Business Opportunity Grant (RBOG) program for fiscal year (FY) 2010, to be competitively awarded based on the terms of this notice and RBOG program regulations found at 7 CFR part 4284, subpart G in the following amounts:

1. Up to $250,000 per application.

These dollar limits do not apply to Federally Recognized Native American Tribes” (FRNAT), and Rural Economic Area Partnerships, for which the RBOG appropriation for FY 2010 provided specific funding.

Grant applications may be submitted for a work period not to exceed two years.

Applicants are strongly encouraged to review the regulations prior to submitting an application.

While not precluding any of the previous uses of these funds, the Agency is particularly interested in recruiting applications that will establish “best practice” projects in the area of regional economic and community development using key strategies of the United States Department of Agriculture (USDA). Regions can be either multi-jurisdictional areas within a State, territory, or Federally-designated Tribal land or can cross State, territory, or Tribal boundaries, and are herein referred to as “Great Regions” applicants. A Great Region application focusing on one or more of the key strategies outlined below may be eligible for additional discretionary points in the application scoring as outlined in the selection criterion in 7 CFR 4284.639(f). Projects should be designed to help rural communities in the region create wealth so they are self-sustaining, repopulating and thriving economically, especially using any of the following USDA key strategies in sustainable ways:

1. Local and regional food systems as a strategy for encouraging production agriculture and related industries in new wealth creation;

2. Renewable energy generation, energy conservation, and/or climate change adaptation or mitigation as strategies for quality job creation;

3. Use of broadband and other critical infrastructure as a strategy to facilitate local entrepreneurship and expansion of market opportunities for small businesses;

4. Access to capital in rural areas as a strategy to ensure continuous business development and job creation/retention; and

5. Innovative utilization of natural resources as a strategy to expand business opportunities.

Applicants are encouraged to consider all available resources in their geographic area that can contribute to supporting their chosen strategies * * * After selection, grantees may be provided with targeted technical assistance by USDA or other Federal agencies as available and appropriate.

DATES: The deadline for the receipt of applications in the respective Rural Development State Office is 4 p.m. local time on June 28, 2010. Any applications received after that time will not be considered for FY 2010 funding; however, the Agency reserves the right to extend the application deadline.

Prospective applicants may submit an application for an informal eligibility pre-review no later than April 28, 2010. The pre-review is intended to provide feedback to the prospective applicant, but is not binding on the Agency.

ADDRESSES: Entities wishing to apply for a grant should contact a Rural Development State Office for additional information and copies of the application package. All applications should be submitted to the Rural Development State Office serving the State or territory where the project, or a majority of the project, would be located. Electronic applications must be submitted through the Grants.gov Web site at: http://www.grants.gov, following the instructions found on this Web site. Applicants whose projects would serve a multi-State area do not need to apply to each State Office. Following is the contact information for Rural Development State Offices:

Alabama

USDA Rural Development State Office, Sterling Centre, Suite 601, 4121 Carmichael Road, Montgomery, AL 36106-3683. (334) 279-3400/TDD (334) 279-3495.

Alaska

USDA Rural Development State Office, 800 West Evergreen, Suite 201, Palmer, AK 99645-6539. (907) 761-7705/TDD (907) 761-8905.

Arizona

USDA Rural Development State Office, 230 N. 1st Ave., Suite 206, Phoenix, AZ 85003. (602) 280-8701/TDD (602) 280-8705.

Arkansas

USDA Rural Development State Office, 700 West Capitol Avenue, Room 3416, Little Rock, AR 72201-3225. (501) 301-3200/TDD (501) 301-3279.

California

USDA Rural Development State Office, 430 G Street, # 4169, Davis, CA 95616-4169. (530) 792-5800/TDD (530) 792-5848.

Colorado

USDA Rural Development State Office, 655 Parfet Street, Room E-100, Lakewood, CO 80215. (720) 544-2903/TDD (720) 544-2976.

Connecticut (see Massachusetts)

Delaware/Maryland

USDA Rural Development State Office, 1221 College Park Drive, Suite 200, Dover, DE 19904. (302) 857-3580/TDD (302) 857-3585.

Florida/Virgin Islands

USDA Rural Development State Office, 4440 NW. 25th Place, P.O. Box 147010, Gainesville, FL 32614-7010. (352) 338-3400/TDD (352) 338-3499.

Georgia

USDA Rural Development State Office, Stephens Federal Building, 355 E. Hancock Avenue, Athens, GA 30601-2768. (706) 546-2162/TDD (706) 546-2034.

Hawaii

USDA Rural Development State Office, Federal Building, Room 311, 154 Waianuenue Avenue, Hilo, HI 96720. (808) 933-8380/TDD (808) 933-8321.

Idaho

USDA Rural Development State Office, 9173 West Barnes Drive, Suite A1, Boise, ID 83709. (208) 378-5600/TDD (208) 378-5644.

Illinois

USDA Rural Development State Office, 2118 West Park Court, Suite A, Champaign, IL 61821. (217) 403-6200/TDD (217) 403-6240.

Indiana

USDA Rural Development State Office, 5975 Lakeside Boulevard, Indianapolis, IN 46278. (317) 290-3100/TDD (317) 290-3343.

Iowa

USDA Rural Development State Office, Federal Building, Room 873, 210 Walnut Street, Des Moines, IA 50309. (515) 284-4663/TDD (515) 284-4858.

Kansas

USDA Rural Development State Office, 1303 SW. First American Place, Suite 100, Topeka, KS 66604-4040. (785) 271-2700/TDD (785) 271-2767.

Kentucky

USDA Rural Development State Office, 771 Corporate Drive, Suite 200, Lexington, KY 40503. (859) 224-7300/TDD (859) 224-7422.

Louisiana

USDA Rural Development State Office, 3727 Government Street, Alexandria, LA 71302. (318) 473-7921/TDD (318) 473-7655.

Maine

USDA Rural Development State Office, 967 Illinois Avenue, Suite 4, P.O. Box 405, Bangor, ME 04402-0405. (207) 990-9160/TDD (207) 942-7331.

Maryland (see Delaware)

Massachusetts/Rhode Island/Connecticut

USDA Rural Development State Office, 451 West Street, Suite 2, Amherst, MA 01002-2999. (413) 253-4300/TDD (413) 253-4590.

Michigan

USDA Rural Development State Office, 3001 Coolidge Road, Suite 200, East Lansing, MI 48823. (517) 324-5190/TDD (517) 324-5169.

Minnesota

USDA Rural Development State Office, 375 Jackson Street, Suite 410, St. Paul, MN 55101-1853. (651) 602-7800/TDD (651) 602-3799.

Mississippi

USDA Rural Development State Office, Federal Building, Suite 831, 100 West Capitol Street, Jackson, MS 39269. (601) 965-4316/TDD (601) 965-5850.

Missouri

USDA Rural Development State Office, 601 Business Loop 70 West, Parkade Center, Suite 235, Columbia, MO 65203. (573) 876-0976/TDD (573) 876-9480.

Montana

USDA Rural Development State Office, 900 Technology Boulevard, Suite B, P.O. Box 850, Bozeman, MT 59771. (406) 585-2580/TDD (406) 585-2562.

Nebraska

USDA Rural Development State Office, Federal Building, Room 152, 100 Centennial Mall North, Lincoln, NE 68508. (402) 437-5551/TDD (402) 437-5093.

Nevada

USDA Rural Development State Office, 1390 South Curry Street, Carson City, NV 89703-5146. (775) 887-1222/TDD (775) 885-0633.

New Jersey

USDA Rural Development State Office, 8000 Midlantic Drive, 5th Floor North, Suite 500, Mt. Laurel, NJ 08054. (856) 787-7700/TDD (856) 787-7784.

New Hampshire (see Vermont)

New Mexico

USDA Rural Development State Office, 6200 Jefferson Street, NE., Room 255, Albuquerque, NM 87109. (505) 761-4950/TDD (505) 761-4938.

New York

USDA Rural Development State Office, The Galleries of Syracuse, 441 South Salina Street, Suite 357, Syracuse, NY 13202-2541. (315) 477-6400/TDD (315) 477-6447.

North Carolina

USDA Rural Development State Office, 4405 Bland Road, Suite 260, Raleigh, NC 27609. (919) 873-2000/TDD (919) 873-2003.

North Dakota

USDA Rural Development State Office, Federal Building, Room 208, 220 East Rosser, P.O. Box 1737, Bismarck, ND 58502-1737. (701) 530-2037/TDD (701) 530-2113.

Ohio

USDA Rural Development State Office, Federal Building, Room 507, 200 North High Street, Columbus, OH 43215-2418. (614) 255-2400/TDD (614) 255-2554.

Oklahoma

USDA Rural Development State Office, 100 USDA, Suite 108, Stillwater, OK 74074-2654. (405) 742-1000/TDD (405) 742-1007.

Oregon

USDA Rural Development State Office, 1201 NE Lloyd Blvd., Suite 801, Portland, OR 97232. (503) 414-3300/TDD (503) 414-3387.

Pennsylvania

USDA Rural Development State Office, One Credit Union Place, Suite 330, Harrisburg, PA 17110-2996. (717) 237-2299/TDD (717) 237-2261.

Puerto Rico

USDA Rural Development State Office, IBM Building, Suite 601, 654 Munos Rivera Avenue, San Juan, PR 00918-6106. (787) 766-5095/TDD (787) 766-5332.

Rhode Island (see Massachusetts)

South Carolina

USDA Rural Development State Office, Strom Thurmond Federal Building, 1835 Assembly Street, Room 1007, Columbia, SC 29201. (803) 765-5163/TDD (803) 765-5697.

South Dakota

USDA Rural Development State Office, Federal Building, Room 210, 200 Fourth Street, SW., Huron, SD 57350. (605) 352-1100/TDD (605) 352-1147.

Tennessee

USDA Rural Development State Office, 3322 West End Avenue, Suite 300, Nashville, TN 37203-1084. (615) 783-1300.

Texas

USDA Rural Development State Office, Federal Building, Suite 102, 101 South Main, Temple, TX 76501. (254) 742-9700/TDD (254) 742-9712.

Utah

USDA Rural Development State Office, Wallace F. Bennett Federal Building, 125 South State Street, Room 4311, Salt Lake City, UT 84138. (801) 524-4320/TDD (801) 524-3309.

Vermont/New Hampshire

USDA Rural Development State Office, City Center, 3rd Floor, 89 Main Street, Montpelier, VT 05602. (802) 828-6000/TDD (802) 223-6365.

Virgin Islands (see Florida)

Virginia

USDA Rural Development State Office, 1606 Santa Rosa Road, Suite 238, Richmond, VA 23229-5014. (804) 287-1550/TDD (804) 287-1753.

Washington

USDA Rural Development State Office, 1835 Black Lake Boulevard SW., Suite B, Olympia, WA 98512-5715. (360) 704-7740/TDD (360) 704-7760.

West Virginia

USDA Rural Development State Office, 75 High Street, Room 320, Morgantown, WV 26505-7500. (304) 284-4860/TDD (304) 284-4836.

Wisconsin

USDA Rural Development State Office, 4949 Kirschling Court, Stevens Point, WI 54481. (715) 345-7600/TDD (715) 345-7614.

Wyoming

USDA Rural Development State Office, 100 East B, Federal Building, Room 1005, P.O. Box 11005, Casper, WY 82602-5006. (307) 233-6700/TDD (307) 233-6733.

U.S. Territories

Guam (see Hawaii)

Western Pacific (see Hawaii)

SUPPLEMENTARY INFORMATION:

Overview

Federal Agency: Rural Business—Cooperative Service (RBS).

Funding Opportunity Type: Rural Business Opportunity Grants (RBOG).

Announcement Type: Initial Solicitation Announcement.

Catalog of Federal Domestic Assistance Number: 10.773

Dates: Application Deadline: Unless extended by the Agency, completed applications for these funds must be received in the respective Rural Development State Office no later than 4 p.m. on June 28, 2010, to be eligible for FY 2010 grant funding. Any applications received after that time will not be considered for FY 2010 funding; however, the Agency reserves the right to extend the application deadline. Electronic applications must be submitted through the Grants.gov Web site at: http://www.grants.gov, following the instructions found on this Web site.

Application pre-review: Prospective applicants may submit an application for an informal eligibility pre-review no later than April 28, 2010. The pre-review is intended to provide feedback to the prospective applicant, but is not binding on the Agency.

I. Funding Opportunity Description

While all of the many eligible purposes for Rural Business Opportunity Grants will continue to be considered, the Agency is particularly interested in recruiting applications that will establish “best practice” projects in the area of regional economic and community development using key strategies of the USDA as identified below. To ensure that a broad range of communities have the opportunity to benefit from the program, no grant will exceed $250,000. These limits do not apply to funding for rural areas designated as FRNATs or Rural Economic Area Partnerships.

Multi-County and Multi-State applicants, referred to as “Great Regions” applicants, can be either multi-jurisdictional areas within a State, territory, or Federally recognized Tribes with land in multiple States or a consortium of Federally recognized Tribes.

Great Regions applications should focus on the economic integration and cohesion of their self-defined geographic area. The Great Regions approach is intended to combine the resources of the Agency with those of State and local governments, educational institutions, and the private and nonprofit sectors to implement regional economic and community development strategies. Accordingly, the Agency will alert the grantee of other potential assistance both within USDA and across the Federal government in support of their project including USDA's various programs and sources of expertise.

The Agency encourages applications that promote substantive economic growth, including job creation, as well as specifically addressing the circumstances of those sectors within the region that have fewer prospects and the greatest need for improved economic opportunity.

Applications should demonstrate:

A. Clear leadership in organizing and coordinating a regional initiative;

B. Evidence that the applicant region has a common economic basis that supports the likelihood of success in implementing its strategy;

C. Evidence that the participants in the regional plan have the capacity to assess their circumstance, determine a long term sustainable vision for the region, and implement a comprehensive strategic plan, including identifying performance measures and establishing a system to collect the data to allow assessment of those performance measures;

D. Evidence that the participants in the regional plan are willing to work collaboratively with a broad range of institutions (e.g., Federal agencies, State, local, and Tribal governments, non-profits, universities and colleges, private firms, philanthropic organizations);

E. Evidence that the participants in the regional plan will seek contributions or investments in the regional strategy from a board range of institutions;

F. Evidence that participants in the regional plan are willing to assure broad citizen participation in its regional work;

G. Evidence of consideration of the demographic diversity within the region; and,

H. Evidence of adequate funding support to disadvantaged communities.

A Great Regions project should be designed to help rural communities in the region create prosperity so they are self-sustaining, repopulating and economically thriving. A Great Region application focusing on one or more of the following key strategies may be eligible for additional discretionary points in the application scoring as outlined in the selection criterion in 7 CFR 4284.639(f).:

1. Local and regional food systems that encourage agriculture and related industries in new wealth creation—Section 6015 of the Food, Conservation, and Energy Act of 2008 (Farm Bill) defines “locally or regionally produced agricultural food products” to be any agricultural food product that is raised, produced, and distributed in:

(I) The locality or region in which the final product is marketed, so that the total distance that the product is transported is less than 400 miles from the origin of the product; or (II) the State in which the product is produced.

Local or regional food systems are the infrastructure behind locally or regionally produced agricultural food products*. This includes both the land, buildings, equipment, professional services such as veterinary care or crop consulting, and feed, seed, fertilizer and other inputs necessary to produce the crops and livestock leading to these food products and the harvesting, transportation, processing, storage, handling, distribution, and retail networks required to give consumers real access to locally or regionally produced food products. Best practice projects should acknowledge the role of producers and consumers, individually or collectively, including through the creation of new or expansion of existing cooperatives.

*(This definition is included for informational purposes only and Applicants should not be constrained by it in formulating their geographic boundaries for RBOG application purposes.)

2. Renewable energy generation and energy conservation as strategies for quality job creation as well as climate change reduction and mitigation—As America turned from the 19th to the 20th Century, rural areas provided much of the workforce and natural resources that powered the Industrial Revolution. While those jobs created prosperity in rural communities, they often came at the price of worker health and the quality of water, air, and soil in the region. As new technologies emerge to create power and fuels from renewable sources, rural Americans look forward to new opportunities to harness the sun that shines on the desert Southwest, the wind that sweeps across the heartland, and to turn agricultural wastes and by-products into power and fuel sources for generations to come. But, from manufacturing photovoltaic films to repairing wind turbines to mastering biomass crop production, harvesting, and storage, realizing those opportunities requires workforce recruitment and development.

There are similar job opportunities in energy conservation, from conducting energy audits for farmers and other rural business owners to jobs in the home improvement business reducing home heating and cooling costs. As is often the case in rural areas, though, sparse population can make entrepreneurship difficult to support.

Best practice projects in this area will demonstrate rural/urban connections and explore the interface of Federal and State level incentives with permitting and regulatory frameworks.

3. Access to broadband and other critical infrastructure as a strategy for facilitating local entrepreneurship and attracting people into rural areas—The Rural Utilities Service, another of the agencies forming the Rural Development mission area, has been financing expansion of electricity into rural areas since 1935 and telecommunications since 1949. In both the Farm Bill and the American Recovery and Reinvestment Act, Congress modernized USDA's telecommunications mission by providing Rural Utilities Service with tools to expand access to broadband in rural areas. Availability of high-speed Internet access has become one of the factors Americans consider in choosing where to live, along with the availability of clean water, sanitary sewer systems, and the quality and availability of housing, schools, and other essential community facilities. Over its 75-year history, Rural Utilities Service and its predecessor, the Rural Electrification Administration, have improved the quality of life for millions of rural Americans and made modern commerce possible. However, it is not enough to make fiber-optic cable, wireless services, or even satellite capability available to rural communities. For the economic promise of broadband technologies to be realized, they must be used. Buyers and sellers must be able to find each other quickly and easily anywhere and anytime. Health care and other service providers must use available technology to improve the quality of the services they offer. Employers must use available technology to recruit, train, and retain a modern workforce. As changes in whole sectors of the American economy—from wood products to automotive parts to the poultry industry—ripple through supply chains in rural communities, broadband access offers hope for new markets and new economic opportunities, but only if it is used.

4. Access to capital in rural areas as a strategy to ensure continuous business development and job creation/retention—Like all business owners, rural entrepreneurs need access to capital to start or expand their businesses. And, like all business owners, rural entrepreneurs have two basic choices when they need to raise capital: Debt financing through a loan or equity financing through selling a stake in the business to investors. But, these tools have not been as readily available in many rural areas as they have been in more metropolitan areas, even when the overall economy was very strong.

The Agency offers a variety of tools designed to make debt financing more available and more affordable, such as capitalizing locally-controlled revolving loan funds through the Intermediary Relending Program and reducing lender risk to make more favorable rates and terms possible for business owners through the Business & Industry Loan Guarantee Program. However, the Farm Bill authorized only one equity financing program, the Rural Business Investment Program (Section 6027), and no funding has been requested or appropriated. The Agency is particularly interested in recruiting best practice projects that identify alternative and replicable equity sources, such as community-based organizations, private foundations or networks of private investors willing to focus on rural economic and community development.

5. Innovative utilization of natural resources as a strategy to expand business opportunities—Creative integration of local natural resources can result in multiple avenues for new or enhanced economic activity that will increase rural wealth. For example, forest resources can be used to encourage eco-tourism resulting in increased demand for businesses to provide supporting services or private pasture land can be used for hunting. If a region becomes known for its unique features, it can create additional sources of income by promoting itself as a destination. Once there, visitors can support businesses such as art galleries, spas, etc.

The Agency is particularly interested in recruiting best practice projects that identify alternative and replicable innovations of natural resource projects as strategies for long term economic development. In addition, within the key strategy categories, the Agency is also interested in applications that integrate economically and environmentally sustainable methods of growth, in particular in transportation, housing, and economic development.

II. Award Information

Type of Award: Grant.

Fiscal Year Funds: FY 2010.

Total Funding: $7.48 million.

Approximate Number of Awards: 30.

Maximum Award: $250,000, except as otherwise specifically provided herein.

Anticipated Award Date: September 15, 2010.

Specially designated places: Tribal lands, Rural Economic Area Partnership (REAP) Zones.

III. Eligibility Information

A. Eligible Applicants

Grants may be made to public bodies, nonprofit corporations, Indian Tribes on Federal or State reservations and other Federally-recognized Tribal groups, and cooperatives with members who are primarily rural residents and that conduct activities for the mutual benefit of the members.

B. Cost Sharing or Matching

Matching funds are not required; however, regulatory selection criteria encourage applications that leverage Federal funds.

C. Other Eligibility Requirements

The purpose of the RBOG program is to facilitate sustainable economic development opportunities for rural people.

D. Completeness Eligibility

Applications must be complete to be considered for FY 2010 funding. The required elements of a complete application are in the RBOG program regulations at 7 CFR Part 4284, Subpart G. Copies of the regulations are available from Rural Development State Offices or can be obtained online from the Rural Development Web site: http://www.rurdev.usda.gov/regs/regs_toc.html.

IV. Fiscal Year 2010 Application and Submission Information

A. Address To Request Application Package

Applicants should contact the Rural Development State Office serving the State, territory, or Tribal lands in which the project, or the majority of the project, would be physically located. Contact information for Rural Development State Offices is listed above.

Applications may be submitted in paper format; however, applicants are encouraged to submit applications through the Grants.gov Web site at http://www.grants.gov. Applications will not be accepted by electronic mail.

The Grants.gov Web site provides all necessary information about how to submit an electronic application through the Web site as well as the hours of operation. Users of Grants.gov will be able to download a copy of the full application package, complete it offline, and then upload and submit the application and all necessary assurances and certifications via the Grants.gov Web site. In addition:

• Applicants are strongly encouraged not to wait until the final day of application acceptance to begin the Grants.gov process;

• In the event of technical difficulties on the final day of application acceptance, an applicant may choose to submit a paper application instead; however, the application must be received by the respective Rural Development State Office by 4 p.m. on June 28, 2010;

• Applicants must have a Dunn and Bradstreet Universal Numbering System (DUNS) number. A DUNS number can be obtained at no cost by calling toll-free 1-866-705-5711 or online at: http://fedgov.dnb.com/webform;

• Applicants submitting through the Grants.gov Web site will receive an automatic acknowledgement of the submission containing a Grants.gov tracking number;

• The Agency may request that an applicant provide original signatures on forms at a later date; and

• Applicants can locate the downloadable application package for the RBOG program on the Grants.gov Web site by using the Catalog of Federal Domestic Assistance Number, which is 10.773, or by searching the FedGrants Funding Opportunity Number, which can be found at http://www.fedgrants.gov.

In accordance with the Paperwork Reduction Act of 1995, the information collection requirement contained in this Notice is approved by the Office of Management Budget (OMB) under OMB Control Number 0570-0024.

B. Content and Form of Submission

An application must be consistent with the statutory requirements of the RBOG program, found in 7 U.S.C. 1926(a)(11), as amended. In addition, an application must contain all of the required elements articulated in the RBOG regulations, found at 7 CFR part 4284, subpart G. Each selection criterion outlined in 7 CFR 4284.639 must be addressed in the application. Failure to address any of the criteria will result in a zero point score for that criterion and will impact the overall evaluation of the application. Copies of pertinent provisions of the regulations can be obtained from a Rural Development State Office listed above or can be obtained electronically from the Rural Development Web site: http://www.rurdev.usda.gov/regs/regs_toc.html.

C. Submission Dates and Times

Application Deadline: Completed applications for these funds must be received by the respective Rural Development State Office no later than 4 p.m. on June 28, 2010 for grant funding. Any applications received after that time will not be considered for FY 2010 funding; however, the Agency reserves the right to extend the application deadline.

Application pre-review: Prospective applicants may submit an application for an informal eligibility pre-review no later than April 28, 2010. The pre-review is intended to provide feedback to the prospective applicant, but is not binding on the Agency.

V. Application Review Information

The National Office will score applications based on the grant selection criteria and point scores contained in 7 CFR part 4284, subpart G and will select a grantee subject to the grantee's satisfactory submission of any additional items required by 7 CFR part 4284, subpart G and the RBS Letter of Conditions.

VI. Award Administration Information

A. Award Notices

Successful applicants will receive notification for funding from the Rural Development State Office. Applicants must comply with all applicable statutes and regulations before the grant award will be approved. Unsuccessful applicants will receive notification, including mediation procedures and appeal rights, by mail.

B. Administrative and National Policy Requirements

Additional requirements that apply to grantees selected for this program can be found in the RBOG regulations, contained in 7 CFR part 4284, subpart G. This regulation may be obtained at: http://www.access.gpo.gov/nara/cfr/page1.

VII. Agency Contacts

For general questions about how to apply or to receive an application package, please contact the Rural Development State Office serving the State or territory where the project, or a majority of the project, would be located.

For specific questions about multi-jurisdictional “Great Region” applications or information about other programs or agencies in USDA, please call 202-720-7558.

Nondiscrimination Statement

“The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at 202-720-6382 (TDD). To file a complaint of discrimination, write to USDA, Director, Office of Adjudication and Compliance, 1400 Independence Avenue, SW, Washington, DC 20250-9410, or call 800-795-3272 (voice), or 202-720-6382 (TDD). USDA is an equal opportunity provider, employer, and lender.”

Appeal Process

All adverse determinations regarding applicant eligibility and the awarding of points as part of the selection process are appealable pursuant to 7 CFR part 11. Instructions on the appeal process will be provide at the time an applicant is notified of the adverse decision.

Dated: February 18, 2010.
Judith A. Canales,
Administrator, Rural Business-Cooperative Service.

[FR Doc. 2010-6860 Filed 3-26-10; 8:45 am]

BILLING CODE 3410-XY-P